DEPARTMENT OF COMMERCE

Foreign-Trade Zones Board

[S-99-2017]

Approval of Subzone Status; MTD Consumer Group Inc., Martin, Tennessee

On June 29, 2017, the Executive Secretary of the Foreign-Trade Zones (FTZ) Board docketed an application submitted by the Northwest Tennessee Regional Port Authority, grantee of FTZ 283, requesting subzone status subject to the existing activation limit of FTZ 283, on behalf of MTD Consumer Group Inc., in Martin, Tennessee.

The application was processed in accordance with the FTZ Act and Regulations, including notice in the Federal Register inviting public comment (82 FR 31044-31045, July 5, 2017). The FTZ staff examiner reviewed the application and determined that it meets the criteria for approval. Pursuant to the authority delegated to the FTZ Board Executive Secretary (15 CFR Sec. 400.36(f)), the application to establish Subzone 283A was approved on August 16, 2017, subject to the FTZ Act and the Board's regulations, including Section 400.13, and further subject to FTZ 283's 2,000-acre activation limit.

Dated: August 24, 2017.
Andrew McGilvray,
Executive Secretary.

[FR Doc. 2017-18437 Filed 8-29-17; 8:45 am]

BILLING CODE 3510-DS-P